DEPARTMENT OF THE INTERIOR

Fish and Wildlife Service

Notice of Receipt of Applications for Permit

Endangered Species

The following applicants have applied for a permit to conduct certain activities with endangered species. This notice is provided pursuant to Section 10(c) of the Endangered Species Act of 1973, as amended (16 U.S.C. 1531, et seq.):

Applicant: Frank L. Fackovec, Southhamptom, NY, PRT-032292.

The applicant requests a permit to import the sport-hunted trophy of one male bontebok (Damaliscus pygargus dorcas) culled from a captive herd maintained under the management program of the Republic of South Africa, for the purpose of enhancement of the survival of the species.

Applicant: Honolulu Zoo, Honolulu, HI, PRT-032235.

The applicant requests a permit to import one male and one female captive held river terrapin (Batagur baska) from the Singapore Zoo for the purpose of propagation for the enhancement of the survival of the species.

Applicant: James E. Norton/University of Illinois at Chicago, Chicago, IL, PRT-028420.

The applicant requests a permit to import biological samples from Central American tapir (Tapirus bairdii) collected from wild, captive-held, and captive-born sources in Panama, for scientific research.

Applicant: Audubon Zoological Garden, New Orleans, LA, PRT-032341.

The applicant requests a permit to import one captive-bred female jaguar (Panthera onca) from the Guadalajara Zoo, Mexico, for the purpose of propagation for the enhancement of the survival of the species.

Applicant: St. Louis Zoo, St. Louis, MO PRT-032266.

The applicant requests a permit to export three male and one female captive-bred black and white ruffed lemurs (Varecia v. variegata) to Madagascar, for the purpose of re-introduction to the wild for the enhancement of the survival of the species.

Applicant: Cleveland Metropark Zoo, Cleveland, OH, PRT-032267.

The applicant requests a permit to import six wild caught Parma wallabies (Macropus parma) from New Zealand, for the purpose of propagation for the enhancement of the survival of the species.

Applicant: Oak Hill Center for Rare and Endangered Species, Luther, OK, PRT-032473.

The applicant requests a permit to import two females captive born clouded leopard (Neofelis nebulosa), from the City of Belfast Zoological Gardens, Belfast, Northern Ireland, for the purpose of propagation for the enhancement of the survival of the species.

Marine Mammals

Applicant: Lawrence A. Franks, Sturgis, MI, PRT-032240.

The applicant requests a permit to import a polar bear (Ursus maritimus) sport-hunted from the Southern Beaufort Sea polar bear population, Canada for personal use.

Applicant: Allen Joseph Telmos, West Bloomfield, MI, PRT-030244.

The applicant requests a permit to import a polar bear (Ursus maritimus) sport-hunted from the Arctic Bay polar bear population, Canada for personal use.

Written data or comments should be submitted to the Director, U.S. Fish and Wildlife Service, Office of Management Authority, 4401 North Fairfax Drive, Room 700, Arlington, Virginia 22203 and must be received by the Director within 30 days of the date of this publication.

Documents and other information submitted with these applications are available for review, subject to the requirements of the Privacy Act and Freedom of Information Act, by any party who submits a written request for a copy of such documents to the following office within 30 days of the date of publication of this notice: U.S. Fish and Wildlife Service, Office of Management Authority, 4401 North Fairfax Drive, Room 700, Arlington, Virginia 22203. Phone: (703/358-2104); FAX: (703/358-2281).

Dated: August 28, 2000.
Charlie Chandler,
Chief, Branch of Permits, Office of Management Authority.

[FR Doc. 00-22314 Filed 8-30-00; 8:45 am]

BILLING CODE 4310-55-P